DEPARTMENT OF TRANSPORTATION

Federal Aviation Administration

14 CFR Part 39

[Docket No. 2003-NM-53-AD; Amendment 39-13085; AD 2003-05-09]

RIN 2120-AA64

Airworthiness Directives; Dassault Model Falcon 2000 and Mystere-Falcon 900 Series Airplanes

AGENCY: Federal Aviation Administration, DOT.

ACTION: Final rule; request for comments.

SUMMARY: This amendment adopts a new airworthiness directive (AD) that is applicable to all Dassault Model Falcon 2000 and Mystere-Falcon 900 series airplanes. This action requires a one-time inspection to detect discrepant wires in the fire control panel for the engines and auxiliary power unit (APU), and corrective action if necessary. This action is necessary to ensure that the correct wires are installed in the fire control panel so that the flight crew can activate the fire extinguishers in the event of an engine or APU fire. This action is intended to address the identified unsafe condition.

DATES: Effective April 2, 2003.

Comments for inclusion in the Rules Docket must be received on or before April 17, 2003.

ADDRESSES: Submit comments in triplicate to the Federal Aviation Administration (FAA), Transport Airplane Directorate, ANM-114, Attention: Rules Docket No. 2003-NM-53-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2003-NM-53-AD” in the subject line and need not be submitted in triplicate. Comments sent via the Internet as attached electronic files must be formatted in Microsoft Word 97 for Windows or ASCII text.

Information related to this AD may be examined at the FAA, Transport Airplane Directorate, Rules Docket, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The Direction Générale de l'Aviation Civile (DGAC), which is the airworthiness authority for France, recently notified the FAA that an unsafe condition may exist on all Dassault Model Falcon 2000 and Mystere-Falcon 900 series airplanes. Typically during routine maintenance, continuity checks are performed on the fire extinguishers and the fire control panel for the engines and auxiliary power unit (APU). Following these checks, the selector switches on the fire control panel are secured with copper snap wires that will readily break away, allowing the switch to activate the extinguishers. The DGAC advises that the maintenance manuals for these airplanes had incorrectly specified that the selector switches be secured with lock wires, rather than breakaway (snap) copper wires. Use of incorrect wires could result in the flight crew being unable to activate the fire extinguishers in the event of an engine or APU fire.

Explanation of Relevant Service Information

Dassault Maintenance Manual sections 26-201 (for Model Falcon 2000 series airplanes) and 26-203 (for Model Mystere-Falcon 900 series airplanes) provide instructions for checking the correct operation of the fire extinguisher control switches. The manufacturer has revised these sections of the maintenance manuals to, among other things, correctly identify the wires for installation on the fire control panel. The revisions are dated February 2003.

The DGAC issued French telegraphic airworthiness directive T2003-084(B), dated February 12, 2003, to ensure the continued airworthiness of these airplanes in France by mandating immediate checks for lock wires in the fire control panel and replacement of lock wires with snap wires.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Rule

Since an unsafe condition has been identified that is likely to exist or develop on other airplanes of the same type design registered in the United States, this AD is being issued to ensure that the correct wires are installed in the fire control panel so that the flight crew can activate the fire extinguishers in the event of an engine or APU fire. This AD requires a one-time general visual inspection to detect discrepant (lock) wires, and replacement of lock wires with snap wires.

Differences Between This AD and the French Airworthiness Directive

The French airworthiness directive mandates that operators check for discrepant wires before the next flight. The FAA recognizes the unsafe condition presented by this situation but finds that an 8-day compliance time is adequate in consideration of the safety implications, the average utilization rate of the affected fleet, the practical aspects of scheduling an orderly inspection of the fleet, and the availability of required replacement parts. The FAA cannot justify the significant economic impact on operators that would occur if airplanes were to be grounded by a required inspection before further flight. Therefore, in light of all of these factors, the FAA has determined that the 8-day compliance time represents an appropriate interval in which to inspect the wires in a timely manner within the fleet and still maintain an adequate level of safety.

The DGAC identifies “MS20995CY15” as one of the standards that identifies the correct wires for the fire control panel described in this AD. The FAA has learned that that document has been canceled and replaced by National Aerospace Standard NASM20995CY15, which is listed in paragraph (a) of this AD.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2003-NM-53-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-05-09 Dassault Aviation: Amendment 39-13085. Docket 2003-NM-53-AD.

Applicability: All Model Falcon 2000 and Mystere-Falcon 900 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To ensure that the correct wires are installed on the fire control panel so that the flight crew is able to activate the fire extinguishers in the event of a fire, accomplish the following:

Inspection

(a) Within 8 days after the effective date of this AD, perform a general visual inspection of the wires on the fire control panel to determine if they are identified in the norms specified in Norme française NF L 23-321, dated September 2000; or National Aerospace Standard NASM20995CY15, dated April 1998. Before further flight, replace lock wires with snap wires that are listed in either the NFL or NASM standard, as specified in Maintenance Manual section 26-201, dated February 2003 (for Model Falcon 2000 series airplanes); or section 26-203, dated February 2003 (for Model Mystere-Falcon 900 series airplanes).

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Alternative Methods of Compliance

(b) An alternative method of compliance or adjustment of the compliance time that provides an acceptable level of safety may be used if approved by the Manager, International Branch, ANM-116, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Note 4: The subject of this AD is addressed in French telegraphic airworthiness directive T2003-084(B), dated February 12, 2003.

Effective Date

(d) This amendment becomes effective on April 2, 2003.

Issued in Renton, Washington, on March 6, 2003.
Ali Bahrami,
Acting Manager, Transport Airplane Directorate, Aircraft Certification Service.

[FR Doc. 03-6261 Filed 3-17-03; 8:45 am]

BILLING CODE 4910-13-P